DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 30, 2020, 05:00 p.m. to March 31, 2020, 05:00 p.m., The Bethesdan Hotel, Tapestry Collection by Hilton, 8120 Wisconsin Ave, Bethesda, MD, 20814 which was published in the Federal Register on February 11, 2020, 85 FR 7772.

The meeting notice is amended to change the Meeting Format from Regular Meeting on March 30-31, 2020 to a Teleconference Meeting on March 30-31, 2020. The meeting is closed to the public.

Dated: March 16, 2020.
Miguelina Perez,
Program Analyst, Office of Federal Advisory Committee Policy.

[FR Doc. 2020-05822 Filed 3-19-20; 8:45 am]

BILLING CODE 4140-01-P